DEPARTMENT OF TRANSPORTATION

Federal Railroad Administration

[Docket No. FRA-2021-0006-N-4]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before July 16, 2021.

ADDRESSES: Written comments and recommendations for the proposed ICR should be submitted on regulations.gov to the docket, Docket No. FRA 2021-0006. All comments received will be posted without change to the docket, including any personal information provided. Please refer to the assigned OMB control number in any correspondence submitted. FRA will summarize comments received in response to this notice in a subsequent notice and include them in its information collection submission to OMB for approval.

FOR FURTHER INFORMATION CONTACT: Ms. Hodan Wells, Information Collection Clearance Officer, at email: hodan.wells@dot.gov or telephone: (202) 493-0440.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Inspection and Maintenance of Steam Locomotives.¹

¹ Previously titled “Inspection and Maintenance of Steam Locomotives (Formerly Steam Locomotive Inspection).”

OMB Control Number: 2130-0505.

Abstract: The Boiler Inspection Act of 1911 required each railroad subject to the Act to file copies of its rules and instructions for the inspection of locomotives. The original Act was expanded to cover all steam locomotives and tenders, and all their parts and appurtenances. As amended, this Act requires carriers to make inspections and to repair defects to ensure the safe operation of steam locomotives. Currently, the collection of information is used primarily by tourist or historic railroads and by locomotive owners/operators to provide a record for each day a steam locomotive is placed in service, as well as a record that the required steam locomotive inspections are completed. The collection of information is also used by FRA and State rail safety inspectors to verify that necessary safety inspections and tests have been completed and to ensure that steam locomotives are indeed “safe and suitable” for service and are properly operated and maintained.

Type of Request: Extension without change (with changes in estimates) of a currently approved collection.

Affected Public: Businesses.

Form(s): FRA-1, FRA-2, FRA-3, FRA-4, FRA-5, and FRA-19.

Respondent Universe: 82 steam locomotive owners/operators.

Frequency of Submission: On occasion; annually.

Reporting Burden:

² The current inventory exhibits a total burden of 18,865 hours while the total burden of this notice is 1,357 hours. FRA determined some of the estimates were not derived from PRA requirements, thus leading to the increased figures in the current inventory, which were decreased accordingly in this notice. Also, FRA made a few textual edits and corrections on Forms 2 and 5.

³ The dollar equivalent cost is derived from the Surface Transportation Board's 2019 Full Year Wage A&B data series using the appropriate employee group hourly wage rate that includes a 75-percent overhead charge.

CFR section ² | Respondent universe | Total annual responses | Average time per response | Total annual burden hours | Total cost equivalent ³
230.6—Waivers | 82 steam owners and operators | 1 waiver letter | 1 hour | 1.00 | $77.47
230.12—Conditions for movement—Non-complying locomotives | 82 steam owners and operators | 10 tags | 6 minutes | 1.00 | 58.40
230.14(b)—31 Service Day Inspection—FRA notification | 82 steam owners and operators | 360 notifications | 5 minutes | 30.00 | 2,324.10
—(c) 31 Service Day Inspection—Filing inspection reports—Form 1 | 82 steam owners and operators | 360 reports | 20 minutes | 120.00 | 9,296.40
230.15—92 Service Day Inspection—Filing inspection report—Form 1 | 82 steam owners and operators | 120 reports | 20 minutes | 40.00 | 3,098.80
230.16(b)—Annual inspection—FRA notification | 82 steam owners and operators | 120 notifications | 5 minutes | 10.00 | 774.70
—(c) Filing inspection report—Form 3 | 82 steam owners and operators | 120 reports | 30 minutes | 60.00 | 4,648.20
230.17—1,472 Service Day Inspection—Form 4 | 82 steam owners and operators | 12 forms | 30 minutes | 6.00 | 464.82
230.20—Alteration Reports—Boilers—Form 19 | 82 steam owners and operators | 5 reports | 1 hour | 5.00 | 387.35
230.21—Steam Locomotive Number Change | 82 steam owners and operators | 1 document | 2 minutes | 0.03 | 2.32
230.33—Welded Repairs/Alterations | 82 steam owners and operators | 5 letters | 2 hours | 10.00 | 774.70
—Written Request to FRA for Approval—Unstayed surfaces | 82 steam owners and operators | 3 letters | 2 hours | 6.00 | 464.82
230.34—Riveted Repairs/Alterations | 82 steam owners and operators | 2 requests | 2 hours | 4.00 | 309.88
230.49—Setting of Safety Relief Valves | 82 steam owners and operators | 5 metal tags | 1 hour | 5.00 | 292.00
230.96—Main, Side, and Valve Motion Rods | 82 steam owners and operators | 1 letter | 2 hours | 2.00 | 154.94
230.13—Daily Inspection Reports—Form 2 | 82 steam owners and operators | 3,650 reports | 10 minutes | 608.33 | 47,127.33
230.17—1,472 Service Day Inspection—Form 3 | 82 steam owners and operators | 12 reports | 15 minutes | 3.00 | 232.41
230.18—Service Day Report: Form 5 ⁴ | 82 steam owners and operators | 150 reports | 15 minutes | 37.50 | 2,905.13
230.19—Posting of Copy—Form 1 & 3 | 82 steam owners and operators | 4,320 copies of forms | 5 minutes | 360.00 | 27,889.20
230.41—Flexible Stay Bolts with Caps | 82 steam owners and operators | 20 entries | 2 minutes | 0.67 | 39.13
230.46—Badge Plates | 82 steam owners and operators | 3 metal stampings | 2 hours | 6.00 | 350.40
230.47—Boiler Number | 82 steam owners and operators | 1 metal stamping | 1 hour | 1.00 | 58.40
230.75—Stenciling Dates of Tests and Cleaning | 82 steam owners and operators | 50 stencils | 30 minutes | 25.00 | 1,460.00
230.98—Driving, Trailing, and Engine Truck Axles—Journal Diameter Stamped | 82 steam owners and operators | 1 metal stamping | 15 minutes | 0.25 | 14.60
230.116—Oil Tanks | 82 steam owners and operators | 30 stencils | 30 minutes | 15.00 | 876.00
Total ⁵ | 82 steam owners and operators | 9,362 responses | N/A | 1,357 | 104,082

Total Estimated Annual Responses: 9,362.

⁴ FRA made a minor text edit.

⁵ Totals may not add due to rounding.

Total Estimated Annual Burden: 1,357 hours.

Total Estimated Annual Burden Hour Dollar Cost Equivalent: $104,082.

Under 44 U.S.C. 3507(a) and 5 CFR 1320.5(b) and 1320.8(b)(3)(vi), FRA informs all interested parties that a respondent is not required to respond to, conduct, or sponsor a collection of information that does not display a currently valid OMB control number.

Authority: 44 U.S.C. 3501-3520.

Brett A. Jortland,
Acting Chief Counsel.

[FR Doc. 2021-10328 Filed 5-14-21; 8:45 am]

BILLING CODE 4910-06-P